DEPARTMENT OF TRANSPORTATION

Coast Guard

33 CFR Part 117

[CGD08-01-050]

RIN 2115-AE47

Drawbridge Operating Regulation; Mississippi River, Wisconsin and Minnesota

AGENCY: Coast Guard, DOT.

ACTION: Temporary deviation.

SUMMARY: The Commander, Eighth Coast Guard District has authorized a temporary deviation from the regulation governing the LaCrosse Railroad Drawbridge, Mile 699.8, Upper Mississippi River at LaCrosse, Wisconsin. This deviation allows the drawbridge to remain closed to navigation for 56 days from 12:01 a.m., January 14, 2002, until 12:01 a.m., March 11, 2002, Central Standard Time. This action will facilitate maintenance work on the bridge.

DATES: This temporary deviation is effective from 12:01 a.m., January 14, 2002, until 12:01 a.m., March 11, 2002.

ADDRESSES: Unless otherwise indicated, documents referred to in this notice are available for inspection or copying at the office of the Eighth Coast Guard District, Bridge Administration Branch, Commander (obr), Eighth Coast Guard District, 1222 Spruce Street, St. Louis, MO 63103-2832. The Bridge Administration Branch maintains the public docket for this temporary deviation.

FOR FURTHER INFORMATION CONTACT: Roger K. Wiebusch, Bridge Administrator, telephone (314) 539-3900, extension 378.

SUPPLEMENTARY INFORMATION: The Canadian Pacific Railway requested a temporary deviation on December 4, 2001 for the operation of the LaCrosse Railroad drawbridge (33 CFR 117.671(b)) to allow the bridge owner time for preventative maintenance.

The LaCrosse Railroad Drawbridge provides a vertical clearance of 21.9 feet above normal pool in the closed-to-navigation position. Navigation on the waterway consists primarily of commercial tows and recreational watercraft. This deviation has been coordinated with waterway users. No objections were received.

This deviation allows the bridge to remain closed to navigation from 12:01 a.m., January 14, 2002 to 12:01 a.m., March 11, 2002. The drawbridge operation regulations, when not amended by a deviation, requires that the drawbridge open on signal.

Roy J. Casto,
Rear Admiral, U.S. Coast Guard Commander, Eighth Coast Guard District.

[FR Doc. 02-2151 Filed 1-28-02; 8:45 am]

BILLING CODE 4910-15-U